ENVIRONMENTAL PROTECTION AGENCY

[FRL-11785-01-OAR]

Renewable Fuel Standard (RFS) Program Compliance; Biogas Regulatory Reform Rule, Notification of Webinar

AGENCY: Environmental Protection Agency (EPA).

ACTION: Notification of webinar.

SUMMARY: The Environmental Protection Agency (EPA) is announcing a public webinar on the Biogas Regulatory Reform Rule (BRRR) provisions of the Renewable Fuel Standard (RFS) program.

DATES: The webinar will be held on April 4, 2024, from 1:00-4:30 p.m., Eastern Time. Additional information regarding the workshop appears below under SUPPLEMENTARY INFORMATION.

ADDRESSES: All attendees must pre-register for the webinar by notifying the contact person listed under FOR FURTHER INFORMATION CONTACT by March 28, 2024. Additional information related to the webinar will be posted at: https://www.epa.gov/renewable-fuel-standard-program/rfs-set-rule-implementation-webinars. Interested parties should check the website for any updated information.

FOR FURTHER INFORMATION CONTACT: Nick Parsons, Office of Transportation and Air Quality, Assessment and Standards Division, Environmental Protection Agency; telephone number: (734) 214-4479; email address: RFS-Hearing@epa.gov.

SUPPLEMENTARY INFORMATION: EPA is hosting a public webinar to discuss the implementation of the Biogas Regulatory Reform Rule (BRRR) provisions promulgated as part of the Renewable Fuel Standard (RFS) final rule for 2023-2025 (the “Set Rule”).¹ These regulatory provisions include registration and reporting, and updated regulatory provisions for the production, distribution, and use of biogas as a renewable fuel.

¹ 88 FR 44468 (July 12, 2023).

During the webinar, EPA intends to discuss various aspects of the BRRR program, including:

• The implementation timeline for BRRR.

• An implementation overview of the BRRR program.

• EPA Central Data Exchange (CDX) registration for biogas producers, renewable natural gas (RNG) producers, RNG RIN separators, and performing required associations.

• Alternative measurement protocols.

EPA will post an agenda approximately one week before the webinar at: https://www.epa.gov/renewable-fuel-standard-program/rfs-set-rule-implementation-webinars. Interested parties should check this website for any updated information.

If you require the services of an interpreter or special accommodations such as audio description, please pre-register for the webinar and describe your needs by March 28, 2024. EPA may not be able to arrange accommodations without advance notice.

Byron Bunker,
Director, Compliance Division, Office of Transportation and Air Quality.

[FR Doc. 2024-04728 Filed 3-5-24; 8:45 am]

BILLING CODE 6560-50-P